DEPARTMENT OF ENERGY

Federal Energy Regulatory Commission

Combined Notice of Filings #1

Take notice that the Commission received the following exempt wholesale generator filings:

Docket Numbers: EG16-99-000.

Applicants: Lindahl Wind Project, LLC.

Description: Notice of Self-Certification for Exempt Wholesale Generator Status for Lindahl Wind Project, LLC.

Filed Date: 5/16/16.

Accession Number: 20160516-5263.

Comments Due: 5 p.m. ET 6/6/16.

Take notice that the Commission received the following electric rate filings:

Docket Numbers: ER10-1827-005.

Applicants: Cleco Power LLC.

Description: Notice of Non-Material Change in Status of Cleco Power LLC.

Filed Date: 5/13/16.

Accession Number: 20160513-5264.

Comments Due: 5 p.m. ET 6/3/16.

Docket Numbers: ER10-1910-011; ER10-1911-011

Applicants: Duquesne Light Company, Duquesne Power, LLC.

Description: Notice of Change in Status of Duquesne Light Company and Duquesne Power, LLC et al.

Filed Date: 5/13/16.

Accession Number: 20160513-5224.

Comments Due: 5 p.m. ET 6/3/16.

Docket Numbers: ER11-3460-009; ER12-673-009; ER12-672-009; ER10-1533-012; ER10-2374-011; ER12-674-009; ER12-670-009; ER12-1301-007.

Applicants: Bayonne Energy Center, LLC, Brea Generation LLC, Brea Power II, LLC, Macquarie Energy LLC, Puget Sound Energy, Inc., Rhode Island Engine Genco, LLC, Rhode Island LFG Genco, LLC, Zone J Tolling Co., LLC.

Description: Notice of Non-Material Change in Status of Bayonne Energy Center, LLC, et al.

Filed Date: 5/13/16.

Accession Number: 20160513-5232.

Comments Due: 5 p.m. ET 6/3/16.

Docket Numbers: ER15-2205-004.

Applicants: Prairie Breeze Wind Energy III LLC.

Description: Notification of Change in Facts of Prairie Breeze Wind Energy III LLC.

Filed Date: 5/16/16.

Accession Number: 20160516-5274.

Comments Due: 5 p.m. ET 6/6/16.

Docket Numbers: ER16-946-001.

Applicants: ISO New England Inc.

Description: Compliance filing: Interconnection Process Improvements Compliance Filing to be effective 4/17/2016.

Filed Date: 5/16/16.

Accession Number: 20160516-5206.

Comments Due: 5 p.m. ET 6/6/16.

Docket Numbers: ER16-994-001.

Applicants: Pacific Gas and Electric Company.

Description: Tariff Amendment: Response to Deficiency Letter for the Amendment to the Western IA (SA 59) to be effective 4/1/2016.

Filed Date: 5/16/16.

Accession Number: 20160516-5309.

Comments Due: 5 p.m. ET 6/6/16.

Docket Numbers: ER16-1704-000.

Applicants: Iron Springs Solar, LLC.

Description: Compliance filing: Comp. Filing—Amendment to MBR Tariff Limits. and Exemptions to be effective 7/12/2016.

Filed Date: 5/13/16.

Accession Number: 20160513-5213.

Comments Due: 5 p.m. ET 6/3/16.

Docket Numbers: ER16-1705-000.

Applicants: PJM Interconnection, L.L.C.

Description: Tariff Cancellation: Notice of Cancellation of WMPA SA No. 3940, Queue No. Y3-054 to be effective 5/16/2016.

Filed Date: 5/16/16.

Accession Number: 20160516-5167.

Comments Due: 5 p.m. ET 6/6/16.

Docket Numbers: ER16-1706-000.

Applicants: Upper Peninsula Power Company.

Description: Section 205(d) Rate Filing: Common Facilities Agreement to be effective 7/16/2016.

Filed Date: 5/16/16.

Accession Number: 20160516-5254.

Comments Due: 5 p.m. ET 6/6/16.

Docket Numbers: ER16-1707-000.

Applicants: Upper Peninsula Power Company.

Description: Section 205(d) Rate Filing: PROJECT SERVICES AGREEMENT to be effective 7/16/2016.

Filed Date: 5/16/16.

Accession Number: 20160516-5256.

Comments Due: 5 p.m. ET 6/6/16.

Docket Numbers: ER16-1708-000.

Applicants: ENGIE Resources Inc.

Description: Section 205(d) Rate Filing: Notice of Succession to be effective 7/16/2016.

Filed Date: 5/16/16.

Accession Number: 20160516-5259.

Comments Due: 5 p.m. ET 6/6/16.

Docket Numbers: ER16-1709-000.

Applicants: Southwest Power Pool, Inc.

Description: Section 205(d) Rate Filing: 3158 Basin Electric and MidAmerican Energy Attachment AO to be effective 10/1/2015.

Filed Date: 5/16/16.

Accession Number: 20160516-5277.

Comments Due: 5 p.m. ET 6/6/16.

Docket Numbers: ER16-1710-000.

Applicants: Southwest Power Pool, Inc.

Description: Section 205(d) Rate Filing: 3159 Basin Electric and MidAmerican Energy Attachment AO to be effective 10/1/2015.

Filed Date: 5/16/16.

Accession Number: 20160516-5285.

Comments Due: 5 p.m. ET 6/6/16.

Docket Numbers: ER16-1711-000.

Applicants: Southwest Power Pool, Inc.

Description: Section 205(d) Rate Filing: 3160 Basin Electric and MidAmerican Energy Attachment AO to be effective 10/1/2015.

Filed Date: 5/16/16.

Accession Number: 20160516-5294.

Comments Due: 5 p.m. ET 6/6/16.

Docket Numbers: ER16-1712-000.

Applicants: Southwest Power Pool, Inc.

Description: Section 205(d) Rate Filing: 3161 Basin Electric and MidAmerican Energy Attachment AO to be effective 10/1/2015.

Filed Date: 5/16/16.

Accession Number: 20160516-5297.

Comments Due: 5 p.m. ET 6/6/16.

Docket Numbers: ER16-1713-000.

Applicants: Southwest Power Pool, Inc.

Description: Section 205(d) Rate Filing: 3162 Basin Electric and MidAmerican Energy Attachment AO to be effective 10/1/2015.

Filed Date: 5/16/16.

Accession Number: 20160516-5301.

Comments Due: 5 p.m. ET 6/6/16.

Take notice that the Commission received the following qualifying facility filings:

Docket Numbers: QF12-135-000.

Applicants: Iowa Hydro, LLC.

Description: Refund Report of Iowa Hydro, LLC.

Filed Date: 5/12/16.

Accession Number: 20160512-5267.

Comments Due: 5 p.m. ET 6/2/16.

Docket Numbers: QF15-793-000; QF15-794-000; QF15-795-000

Applicants: SunE B9 Holdings, LLC.

Description: Revised Refund Report of SunE B9 Holdings, LLC, et al.

Filed Date: 5/12/16.

Accession Number: 20160512-5232.

Comments Due: 5 p.m. ET 6/2/16.

Docket Numbers: QF16-825-000.

Applicants: Petra Nova Power I LLC.

Description: Form 556 of Petra Nova Power I LLC.

Filed Date: 5/16/16.

Accession Number: 20160516-5272.

Comments Due: None Applicable.

Take notice that the Commission received the following PURPA 210(m)(3) filings:

Docket Numbers: QM16-4-000.

Applicants: Hoosier Energy Rural Electric Coop. Inc.

Description: Letter Amendment to May 11, 2016 Application of Hoosier Energy Rural Electric Cooperative, Inc. to Terminate QF Mandatory Purchase Obligation.

Filed Date: 5/13/16.

Accession Number: 20160513-5216.

Comments Due: 5 p.m. ET 6/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2016.
Nathaniel J. Davis, Sr.,
Deputy Secretary.

[FR Doc. 2016-12211 Filed 5-23-16; 8:45 am]

BILLING CODE 6717-01-P